SOCIAL SECURITY ADMINISTRATION

[Docket No. SSA-2010-0022]

Occupational Information Development Advisory Panel Meeting

AGENCY: Social Security Administration (SSA).

ACTION: Notice of upcoming quarterly panel meeting.

DATES: June 9, 2010, 1 p.m.—5 p.m. (CST); June 10, 2010, 8:30 a.m.-11:30 a.m. (CST).

Location: Doubletree Hotel Memphis Downtown.

ADDRESSES: 185 Union Avenue, Memphis, TN 38103.

By Teleconference: (866) 871-4318.

SUPPLEMENTARY INFORMATION: Type of Meeting: The meeting is open to the public.

Purpose: This discretionary Panel, established under the Federal Advisory Committee Act of 1972, as amended, shall report to the Commissioner of Social Security. The Panel will advise the Agency on creating an occupational information system tailored specifically for the Social Security Administration's (SSA) disability determination process and adjudicative needs. Advice and recommendations will relate to SSA's disability programs in the following areas: medical and vocational analysis of disability claims; occupational analysis, including definitions, ratings and capture of physical and mental/cognitive demands of work and other occupational information critical to SSA disability programs; data collection; use of occupational information in SSA's disability programs; and any other area(s) that would enable SSA to develop an occupational information system suited to its disability programs and improve the medical-vocational adjudication policies and processes.

Agenda: The Panel will meet on Wednesday, June 9, 2010, from 1 p.m. until 5 p.m. (CST) and Thursday, June 10, 2010, from 8:30 a.m. until 11:30 a.m. (CST).

The tentative agenda for this meeting includes: a presentation on the status on the SSA FY 2010 Occupational Information System Development Project activities and the proposed integration with Panel activities; subcommittee chair reports; individual and organizational public comment; Panel discussion and deliberation, and an administrative business meeting. The final agenda will be posted on the Internet one week prior to the meeting at http://www.socialsecurity.gov/oidap.

The Panel will hear public comment during the Quarterly Meeting on Wednesday, June 9, from 4:30 p.m. to 5 p.m. (CST) and Thursday, June 10, from 10:15 a.m. to 11:15 a.m. (CST). Members of the public must reserve a time slot—assigned on a first come, first served basis—in order to comment. In the event that scheduled public comment does not take the entire time allotted, the Panel may use any remaining time to deliberate or conduct other business.

Those interested in providing testimony in person at the meeting or via teleconference should contact the Panel staff by e-mail to OIDAP@ssa.gov. Individuals providing testimony are limited to a maximum five minutes; organizational representatives, a maximum of ten minutes. You may submit written testimony, no longer than five (5) pages, at any time in person or by mail, fax or e-mail to OIDAP@ssa.gov for Panel consideration.

Seating is limited. Those needing special accommodation in order to attend or participate in the meeting (e.g., sign language interpretation, assistive listening devices, or materials in alternative formats, such as large print or CD) should notify Debra Tidwell-Peters via e-mail to debra.tidwell-peters@ssa.gov or by telephone at 410-965-9617, no later than May 28, 2010. We will attempt to accommodate requests made but cannot guarantee availability of services. All meeting locations are barrier free.

For telephone access to the meeting on June 9 and 10, please dial toll-free to (866) 871-4318.

Contact Information: Records of all public Panel proceedings are maintained and available for inspection. Anyone requiring further information should contact the Panel staff at: Occupational Information Development Advisory Panel, Social Security Administration, 6401 Security Boulevard, 3-E-26 Operations, Baltimore, MD 21235-0001. Fax: 410-597-0825. E-mail to: OIDAP@ssa.gov. For additional information, please visit the Panel Web site at http://www.ssa.gov/oidap.

Reminder Item:

On Tuesday, May 4, 2010 we published a Federal Register notice requesting comments on the recommendations submitted to us by the Occupational Information Development Advisory Panel in its report entitled “Content Model and Classification Recommendations for the Social Security Administration Occupational Information System, September 2009.” The Panel report is available online at: http://www.socialsecurity.gov/oidap/Documents/FinalReportRecommendations.pdf.

The comment period for the May 4, 2010 Federal Register notice ends on June 30, 2010. Please follow the instructions for submitting comments that are outlined in the May 4, 2010 Federal Register document. You may view a copy of the May 4, 2010 Federal Register notice by accessing the following link: http://www.socialsecurity.gov/oidap/Documents/SSA-2010-00181.pdf

Deborah A. Tidwell,
Designated Federal Officer, Occupational Information Development Advisory Panel.

[FR Doc. 2010-12630 Filed 5-25-10; 8:45 am]

BILLING CODE 4191-02-P